DEPARTMENT OF STATE

[Public Notice 3912]

Advisory Commission on Public Diplomacy; Notice of Meeting

The Department of State announces the meeting of the U.S. Advisory Commission on Public Diplomacy on Tuesday, March 26, 2002, in Room 600, 301 4th St., SW, Washington, DC from 12 Noon to 3:30 p.m.

The Commission, reauthorized pursuant to Public Law 106-113 (H.R. 3194, Consolidated Appropriations Act, 2000), will discuss direction for a new executive director, and general update on the effectiveness of public diplomacy initiatives.

Members of the general public may attend the meeting, though attendance of public members will be limited to the seating available. Access to the building is controlled, and individual building passes are required for all attendees.

Dated: March 6, 2002.
David Whitten,
Executive Director, Bureau of Educational and Cultural Affairs, Department of State.

[FR Doc. 02-5914 Filed 3-11-02; 8:45 am]

BILLING CODE 4710-11-U